DEPARTMENT OF TRANSPORTATION

Federal Aviation Administration

14 CFR Part 39

[Docket No. 2000-CE-28-AD]

RIN 2120-AA64

Airworthiness Directives; Fairchild Aircraft, Inc. Models SA226 and SA227 Series Airplanes

AGENCY: Federal Aviation Administration, DOT.

ACTION: Notice of proposed rulemaking (NPRM).

SUMMARY: This document proposes to adopt a new airworthiness directive (AD) that would apply to certain Fairchild Aircraft SA226 and SA227 series airplanes. The proposed AD would require you to replace the brake shuttle valves with parts of improved design; and would require you to install a shield over the hydraulic lines. The proposed AD is the result of the wheel brake system malfunction caused by a faulty parking brake shuttle valve. The actions specified by the proposed AD are intended to correct potential brake shuttle valve problems, which could cause the brake assembly to drag and overheat. Hydraulic or fuel line damage could then occur if the overheated brake assembly is retracted into the main wheel well, with a consequent fire if the hydraulic or fuel lines ruptured.

DATES: The Federal Aviation Administration (FAA) must receive any comments on this rule on or before September 22, 2000.

ADDRESSES: Submit comments in triplicate to FAA, Central Region, Office of the Regional Counsel, Attention: Rules Docket No. 2000-CE-28-AD, 901 Locust, Room 506, Kansas City, Missouri 64106. Comments may be inspected at this location between 8 a.m. and 4 p.m., Monday through Friday, holidays excepted.

Service information that applies to the proposed AD may be obtained from Fairchild Aircraft, Inc., P.O. Box 790490, San Antonio, Texas 78279-0490; telephone: (210) 824-9421; facsimile: (210) 820-8609. This information also may be examined at the Rules Docket at the address above.

FOR FURTHER INFORMATION CONTACT: Werner Koch, Aerospace Engineer, FAA, Airplane Certification Office, 2601 Meacham Boulevard, Fort Worth, Texas 76193-0150; telephone: (817) 222-5133; facsimile: (817) 222-5960.

SUPPLEMENTARY INFORMATION:

Comments Invited

How do I comment on the proposed AD?

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the AD I should pay attention to?

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

How can I be sure FAA receives my comment?

If you want us to acknowledge the receipt of your comments, you must include a self-addressed, stamped postcard. On the postcard, write “Comments to Docket No. 2000-CE-28-AD.” We will date stamp and mail the postcard back to you.

Discussion

What events have caused this AD?

The FAA received a report of an accident involving a Fairchild Model SA226-TC airplane where the flight crew lost control of the airplane at low altitude during the final approach for landing. Prior to the accident, the flight crew reported a loss of hydraulic pressure and a fire on the left side of the airplane.

Investigation of this accident indicates the following:

—the flight crew applied right rudder power during the takeoff roll to compensate for a dragging and overheated left wheel brake and then raised the landing gear into the left wheel well;

—the overheated wheel brake ignited the tires and the hydraulic fluid; and

—the hydraulic fluid burned the rubber fuel crossover hose and resulted in fuel leakage with a consequent fire.

The accident investigation shows that the parking brake shuttle valve may have caused the left wheel brake to drag and overheat.

What are the consequences if the condition is not corrected?

Original design parking brake shuttle valves, if not replaced with improved design valves, could cause the wheel brakes to drag and overheat. This could result in hydraulic or fuel line damage if the overheated brake assembly is retracted into the main wheel wells. A consequent fire could occur if the hydraulic or fuel lines ruptured.

Relevant Service Information

Is there service information that applies to this subject?

Fairchild has issued the following service bulletins:

—Service Bulletin No. 226-26-003, which applies to certain SA226 series airplanes and incorporates the following pages:

Pages | Date
1, 2, 4, 6, 8, 9, 10, 11, 14, and 15 | Issued: March 1, 2000.
3, 5, 7, 12, and 13 | Issued: March 1, 2000, Revised: June 27, 2000.

—Service Bulletin No. 227-26-002, which applies to certain SA227 series airplanes and incorporates the following pages:

Pages | Date
1, 2, 6, and 9 | Issued: March 1, 2000.
3, 4, 5, 7, and 8 | Issued: March 1, 2000, Revised: June 27, 2000.

What are the provisions of this service bulletin?

The service bulletin includes procedures for:

—replacing each brake shuttle valve with a part number (P/N) MS28767-4 brake shuttle valve;

—replacing the rubber fuel hose with a metal device; and

—installing a shield over the hydraulic lines.

The FAA's Determination and an Explanation of the Provisions of the Proposed AD

What has FAA decided?

After examining the circumstances and reviewing all available information related to the incidents described above, we have determined that:

—The unsafe condition referenced in this document exists or could develop on other Fairchild Aircraft SA226 and SA227 series airplanes of the same type design;

—The actions specified in the previously-referenced service information should be accomplished on the affected airplanes; and

—AD action should be taken in order to prevent the possibility of hydraulic or fuel line damage should an overheated brake assembly be retracted in the main wheel well.

What does the proposed AD require?

This proposed AD would require you to accomplish the following in accordance with Fairchild Service Bulletin No. 226-26-003, Issued: March 1, 2000, Revised: June 27, 2000, or Fairchild Service Bulletin No. 227-26-002, Issued: March 1, 2000, Revised: June 27, 2000, as applicable:

—Replace each brake shuttle valve with a part number (P/N) MS28767-4 brake shuttle valve; and

—Install a shield over the hydraulic lines.

We will address replacement of the rubber fuel hose with a metal device in another AD action when parts to accomplish this replacement are available. This proposed AD would not apply to any airplane with an anti-skid/power brake system installed.

Cost Impact

How many airplanes does the proposed AD impact?

We estimate that the proposed AD affects 250 airplanes in the U.S. registry.

What is the cost impact of the proposed AD on owners/operators of the affected airplanes?

We estimate the following costs to accomplish the proposed AD:

SA226 Series Airplanes
Labor cost for shuttle valve replacement | Labor cost for shield installation | Parts cost per airplane | Total cost per airplane
40 workhours × $60 per hour = $2,400 | 15 workhours × 60 per hour = $900 | $532 | $2,400 + $900 + $532 = $3,832

SA227 Series Airplanes
Labor cost for shuttle value replacement | Labor cost for shield installation | Parts costs per airplane | Total cost per airplane
50 workhours × $60 per hour = $3,000 | 15 workhours × 60 per hour = $900 | $532 | $3,000 + $900 + $532 = $4,432

Compliance Time of the Proposed AD

What is the compliance time of the proposed AD?

The compliance time of this proposed AD is at whichever of the following that occurs later:

—Within 500 hours time-in-service (TIS) after the effective date of this AD; or

—Within 6 months after the effective date of this AD.

Why is the compliance time of the proposed AD presented in both hours TIS and calendar time?

The affected airplanes are used in both general aviation and commuter operations. Those commuter operators may accumulate 500 hours TIS on the airplane in less than 2 months and many owners have numerous affected airplanes in their fleets. We have determined that the dual compliance time:

—Gives all owners/operators of the affected airplanes adequate time to schedule and accomplish the actions in this proposed AD; and

—Assures that the unsafe condition referenced in this AD will be corrected within a reasonable time period without inadvertently grounding any of the affected airplanes.

Regulatory Impact

How does this AD impact various entities?

The regulations proposed herein would not have a substantial direct effect on the States, on the relationship between the national government and the States, or on the distribution of power and responsibilities among the various levels of government. Therefore, it is determined that this proposed rule would not have federalism implications under Executive Order 13132.

How does this AD involve a significant rule or regulatory action?

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Fairchild Aircraft, Inc.: Docket No. 2000-CE-28-AD

(a) What airplanes are affected by this AD? The following airplane models and serial numbers that:

(1) are certificated in any category; and

(2) do not have an anti-skid/power brake system installed:

Model | Serial Numbers
SA226-T | T201 through T248
SA226-T(A) | T(A)249 through T(A)-291
SA226-T(B) | T(B) 276 and T(B) 292 through T(B) 417
SA226-AT | AT001 through AT074
SA226-TC | TC201 through TC419
SA227-TT | TT421 through TT555
SA227-TT(300) | TT447, TT465, TT471, TT483, TT512, TT518, TT521, TT527, TT529, and 536
SA227-AT | AT421, AT423 through AT631, and AT695
SA227-AC (Shuttle Valve Replacement Only; paragraph (d)(1) of this AD) | AC406, AC415, AC416, and AC420 through AC534
SA227-AC (Hydraulic Line Shield Installation Only; paragraph (d)(2) of this AD) | AC406, AC415, AC416, and AC420 through AC788

(b) Who must comply with this AD? Anyone who wishes to operate any of the above airplanes on the U.S. Register must comply with this AD. The AD does not apply to any airplane with an anti-skid/power brake system installed.

(c) What problem does this AD address? The actions specified by this AD are intended to correct potential brake shuttle valve problems, which could cause the brake assembly to drag and overheat. Hydraulic or fuel line damage could then occur if the overheated brake assembly is retracted into the main wheel well, with a consequent fire if the hydraulic or fuel lines ruptured.

(d) What actions must I accomplish to address this problem? To address this problem, you must accomplish the following:

Action | Compliance time | Procedures
(1) Accomplish the following modifications: (i) Replace each brake shuttle valve with a part number (P/N) MS28767-4 brake shuttle valve (or FAA-approved equivalent part number). (ii) Install a shield over the hydraulic lines. | All actions within 500 hours time-in-service (TIS) after the effective date of this AD or within 6 months after the effective date of this AD, whichever occurs later. | Perform all actions in accordance with the ACCOMPLISHMENT INSTRUCTIONS section of whichever of the following is applicable: (A) Fairchild Aircraft Service Bulletin No. 226-26-003, which incorporates the following pages: Pages—1, 2, 4, 6, 8, 9, 10, 11, 14, and 15. Date—Issued: March 1, 2000. Pages—3, 4, 5, 7, and 8. Date—Issued: March 1, 2000. Revised: June 27, 2000. (B) Fairchild Aircraft Service Bulletin No. 227-26-002, which incorporates the following pages: Pages—1, 2, 6, and 9. Date—Issued: March 1, 2000. Pages—3, 5, 7, 12, and 13. Issued: March 1, 2000. Revised: June 27, 2000.
(2) Do not install any brake shuttle valve that is not a P/N MS28767-4 brake shuttle valve (or FAA-approved equivalent part number). | As of the effective date of this AD | Not applicable.
Note: The service information in this document also specifies replacement of the rubber fuel hose with a metal device. We will address this replacement in another AD action when parts are available.

(e) Can I comply with this AD in any other way? You may use an alternative method of compliance or adjust the compliance time if:

(1) Your alternative method of compliance provides an equivalent level of safety; and

(2) The Manager, Fort Worth Airplane Certification Office, approves your alternative. Submit your request through an FAA Principal Maintenance Inspector, who may add comments and then send it to the Manager.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact the Fort Worth Airplane Certification Office, 2601 Meacham Boulevard, Fort Worth, Texas 76193-0150; telephone: (817) 222-5133; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Fairchild Aircraft, Inc., P.O. Box 790490, San Antonio, Texas 78279-0490. You may examine these documents at FAA, Central Region, Office of the Regional Counsel, 901 Locust, Room 506, Kansas City, Missouri 64106.

Issued in Kansas City, Missouri, on July 24, 2000.
Michael Gallagher,
Manager, Small Airplane Directorate, Aircraft Certification Service.

[FR Doc. 00-19268 Filed 8-3-00; 8:45 am]

BILLING CODE 4910-13-U